DEPARTMENT OF TRANSPORTATION

Federal Aviation Administration

14 CFR Part 39

[Docket No. FAA-2010-0758; Directorate Identifier 2010-SW-004-AD; Amendment 39-16385; AD 2010-16-08]

RIN 2120-AA64

Airworthiness Directives; Schweizer Aircraft Corporation (Schweizer) Model 269D Helicopters

AGENCY: Federal Aviation Administration (FAA), Department of Transportation (DOT).

ACTION: Final rule; request for comments.

SUMMARY: This amendment adopts a new airworthiness directive (AD) for the Schweizer Model 269D helicopters. This action requires installing a Scroll Housing Blade Containment Shielding Kit on each helicopter. This amendment is prompted by 21 reports of the blades of the oil cooler impeller separating, one of which punctured the engine and transmission oil cooler resulting in loss of engine oil pressure. The actions specified in this AD are intended to protect the oil cooler from uncontained oil cooler impeller blades that could damage the oil cooler and result in loss of engine and transmission oil pressure, and subsequent loss of control of the helicopter.

DATES: Effective August 20, 2010.

Comments for inclusion in the Rules Docket must be received on or before October 4, 2010.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Schweizer Aircraft Corporation, Elmira/Corning Regional Airport, 1250 Schweizer Road, Horseheads, NY 14845, telephone (607) 739-3821, fax: (607) 796-2488, e-mail address schweizer@sacusa.com, or at http://www.sacusa.com/support.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Richard P. Fiesel, Aviation Safety Engineer, FAA, New York Aircraft Certification Office, Airframe and Propulsion Branch, 1600 Stewart Ave., suite 410, Westbury, New York 11590, telephone (516) 228-7304, fax (516) 794-5531.

SUPPLEMENTARY INFORMATION: This amendment adopts a new AD for the Schweizer Model 269D helicopters. This action requires installing a certain Scroll Housing Blade Containment Shielding Kit on each helicopter. This amendment is prompted by 21 reports of the blades of the oil cooler impeller separating and damaging the oil cooler. One failure resulted in an emergency landing when the crew experienced vibration and loss of oil pressure. Further investigation revealed that a portion of a fan impeller blade damaged the oil cooler resulting in a loss of oil. This condition, if not corrected, could result in loss of engine and transmission oil pressure and subsequent loss of control of the helicopter.

We have reviewed Schweizer Service Bulletin No. DB-031, dated September 1, 2009 (SB), which specifies installing a Scroll Housing Blade Containment Shielding Kit, part number (P/N) SA-269DK-048 on each Model 269D helicopter. The manufacturer developed the containment kit after a recent incident in which separation of a blade due to fatigue cracks at the root of the blade resulted in damage to the oil cooler and loss of engine oil pressure. The SB states that the containment kit will prevent the escape of any separated impeller blades from the scroll assembly and relieve the operator of daily and 25-hour time-in-service (TIS) inspections. The SB also states that future inspections of the cooling impeller will be done at 100-hour TIS intervals per the maintenance manual.

This unsafe condition is likely to exist or develop on other helicopters of the same type design. Therefore, this AD is being issued to prevent failure of the oil cooler, loss of engine and transmission oil pressure, and subsequent loss of control of the helicopter. This AD requires installing a Scroll Housing Blade Containment Shielding Kit, P/N SA-269DK-048, on each helicopter.

The short compliance time involved is required because the previously described critical unsafe condition can adversely affect the controllability and structural integrity of the helicopter. Therefore, installing an SA-269DK-048 Scroll Housing Blade Containment Shielding Kit on each helicopter is required within 25 hours TIS, and this AD must be issued immediately.

Since a situation exists that requires the immediate adoption of this regulation, it is found that notice and opportunity for prior public comment hereon are impracticable and that good cause exists for making this amendment effective in less than 30 days.

We estimate that this AD will affect 21 helicopters, and removing the scroll assembly and installing the containment kit will take about 3 work hours at an average labor rate of $85 per work hour. Required parts will cost about $288 per helicopter. Based on these figures, we estimate the total cost impact of the AD on U.S. operators to be $11,403.

Comments Invited

This AD is a final rule that involves requirements that affect flight safety and was not preceded by notice and an opportunity for public comment; however, we invite you to submit any written data, views, or arguments regarding this AD. Send your comments to an address listed under ADDRESSES. Include “Docket No. FAA-2010-0758; Directorate Identifier 2010-SW-004-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of our docket web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-16-08 Schweizer Aircraft Corporation: Amendment 39-16385. Docket No. FAA-2010-0758; Directorate Identifier 2010-SW-004-AD.

Applicability: Model 269D helicopters, certificated in any category.

Compliance: Within 25 hours time-in-service, unless done previously.

To prevent the blades of the oil cooler impeller from separating and damaging the oil cooler, leading to loss of engine and transmission oil pressure and subsequent loss of control of the helicopter, do the following:

(a) Install a Scroll Housing Blade Containment Shielding Kit, part number (P/N) SA-269DK-048, on each helicopter.

Note: The Schweizer Model 269D Configuration “A” Basic Helicopter Maintenance Manual (HMI), revised April 17, 2009, contains guidance that pertains to the subject of this AD.

(b) To request a different method of compliance or a different compliance time for this AD, follow the procedures in 14 CFR 39.19. Contact the Manager, New York Aircraft Certification Office, Attn: Richard P. Fiesel, Aerospace Engineer, Aviation Safety Engineer, FAA, New York Aircraft Certification Office, Airframe and Propulsion Branch, 1600 Stewart Ave., suite 410, Westbury, New York 11590, telephone (516) 228-7304, fax (516) 794-5531, for information about previously approved alternative methods of compliance.

(c) The Joint Aircraft System/Component (JASC) Code is 6322: Rotorcraft Cooling Fan System.

(d) This amendment becomes effective on August 20, 2010.

Issued in Fort Worth, Texas, on July 26, 2010.
Mark R. Schilling,
Acting Manager, Rotorcraft Directorate, Aircraft Certification Service.

[FR Doc. 2010-19114 Filed 8-4-10; 8:45 am]

BILLING CODE 4910-13-P